SECURITIES AND EXCHANGE COMMISSION

[Release Nos. 33-8443; 34-50033; IC-26497; File No. S7-28-03]

RIN 3235-AI95

Disclosure of Breakpoint Discounts by Mutual Funds

AGENCY: Securities and Exchange Commission.

ACTION: Notice of OMB Approval of Collections of Information.

FOR FURTHER INFORMATION CONTACT: Christian L. Broadbent, Senior Counsel, Office of Disclosure Regulation, Division of Investment Management, (202) 942-0721, at the Securities and Exchange Commission, 450 Fifth Street, NW., Washington, DC 20549-0506.

SUPPLEMENTARY INFORMATION: The Office of Management and Budget has approved the collection of information requirements contained in Disclosure of Breakpoint Discounts by Mutual Funds,¹ titled “Form N-1A under the Investment Company Act of 1940 and Securities Act of 1933, Registration Statement of Open-End Management Investment Companies” (OMB Control No. 3235-0307).

¹ Investment Company Act Release No. 26464 (June 7, 2004) [69 FR 33262 (June 14, 2004)].

Dated: July 16, 2004.
Margaret H. McFarland,
Deputy Secretary.

[FR Doc. 04-16786 Filed 7-22-04; 8:45 am]

BILLING CODE 8010-01-P